ENVIRONMENTAL PROTECTION AGENCY

[FRL-10014-70-Region 6]

Underground Injection Control Program; Hazardous Waste Injection Restrictions; Petition for Exemption Reissuance—Class I Hazardous Waste Injection; INEOS Nitriles USA LLC (INEOS)—Green Lake Complex, Port Lavaca, Texas

AGENCY: Environmental Protection Agency (EPA).

ACTION: Notice of a final decision on a no migration petition reissuance.

SUMMARY: Notice is hereby given that a reissuance of an exemption to the land disposal Restrictions, under the 1984 Hazardous and Solid Waste Amendments to the Resource Conservation and Recovery Act, has been granted to INEOS for three Class I hazardous waste injection wells located at their Green Lake Complex located in Port Lavaca, Texas. The company has adequately demonstrated to the satisfaction of the Environmental Protection Agency (EPA) by the petition reissuance application and supporting documentation that, to a reasonable degree of certainty, there will be no migration of hazardous constituents from the injection zone for as long as the waste remains hazardous. This final decision allows the underground injection by INEOS, of the specific restricted hazardous wastes identified in this exemption reissuance, into Class I hazardous waste injection Wells WDW-163, WDW-164, and WDW-165 until December 31, 2028, unless EPA moves to terminate this exemption. Additional conditions included in this final decision may be reviewed by contacting the Region 6 Ground Water/UIC Section. A public notice was issued June 24, 2020, and the public comment period closed on August 10, 2020. No comments were received. This decision constitutes final Agency action and there is no Administrative appeal. This decision may be reviewed/appealed in compliance with the Administrative Procedure Act.

DATES: This action is effective as of September 17, 2020.

ADDRESSES: Copies of the petition reissuance and all pertinent information relating thereto are on file at the following location: Environmental Protection Agency, Region 6, Water Division, Safe Drinking Water Branch (6WQ-S), 1201 Elm Street, Suite 500, Dallas, Texas 75270-2102.

FOR FURTHER INFORMATION CONTACT: Ken Johnson, Chief Ground Water/UIC Section, EPA—Region 6, telephone (214) 665-8473.

Dated: September 17, 2020.
Charles Maguire,
Director, Water Division, Region 6.

[FR Doc. 2020-21321 Filed 9-25-20; 8:45 am]

BILLING CODE 6560-50-P